DEPARTMENT OF HEALTH AND HUMAN SERVICES

Food and Drug Administration

[Docket No. FDA-2013-N-0747]

Assessment of the Risk of Human Salmonellosis Associated With the Consumption of Tree Nuts; Request for Comments, Scientific Data and Information; Extension of Comment Period

AGENCY: Food and Drug Administration, HHS.

ACTION: Notice; extension of comment period.

SUMMARY: The Food and Drug Administration (FDA or we) is extending the comment period for the notice entitled “Assessment of the Risk of Human Salmonellosis Associated With the Consumption of Tree Nuts; Request for Comments, Scientific Data and Information” that appeared in the Federal Register of July 18, 2013 (78 FR 42963). In the notice, FDA requested comments and data relevant to conducting an assessment of the risk of human salmonellosis associated with the consumption of tree nuts. We are taking this action in response to requests for an extension to allow interested persons additional time to submit comments, scientific data, and information.

DATES: We are extending the comment period on the notice. Submit either electronic or written comments and scientific data and information by December 16, 2013.

ADDRESSES: Submit electronic comments and scientific data and information to http://www.regulations.gov. Submit written comments and scientific data and information to the Division of Dockets Management (HFA-305), Food and Drug Administration, 5630 Fishers Lane, Rm. 1061, Rockville, MD 20852.

FOR FURTHER INFORMATION CONTACT: Sherri Dennis, Center for Food Safety and Applied Nutrition (HFS-06), Food and Drug Administration, 5100 Paint Branch Pkwy., College Park, MD 20740, 240-402-1914.

SUPPLEMENTARY INFORMATION:

I. Background

In the Federal Register of July 18, 2013 (78 FR 42963), we published a notice entitled “Assessment of the Risk of Human Salmonellosis Associated With the Consumption of Tree Nuts; Request for Comments, Scientific Data and Information.” The notice provided a 90-day comment period for comments, scientific data, and information relevant to conducting an assessment of the risk of human salmonellosis associated with the consumption of tree nuts.

We have received three requests for an extension of the comment period for the notice. Each request conveyed concern that the current 90-day comment period is not adequate to develop a response to the notice.

We have considered these requests and are extending the comment period for the notice for 60 days, until December 16, 2013. We believe that a 60-day extension allows adequate time for interested persons to submit comments, scientific data, and information without significantly delaying the risk assessment.

II. Comments

Interested persons may submit either electronic comments and scientific data and information to http://www.regulations.gov or written comments and scientific data and information to the Division of Dockets Management (see ADDRESSES). It is only necessary to send one set of comments. Identify comments with the docket number found in brackets in the heading of this document. Received comments may be seen in the Division of Dockets Management between 9 a.m. and 4 p.m., Monday through Friday, and will be posted to the docket at http://www.regulations.gov.

Dated: September 27, 2013.
Leslie Kux,
Assistant Commissioner for Policy.

[FR Doc. 2013-24171 Filed 10-2-13; 8:45 am]

BILLING CODE 4160-01-P